DEPARTMENT OF TRANSPORTATION

Office of the Secretary

Aviation Proceedings, Agreements Filed the Week Ending April 2, 2011

The following Agreements were filed with the Department of Transportation under the Sections 412 and 414 of the Federal Aviation Act, as amended (49 U.S.C. 1382 and 1384) and procedures governing proceedings to enforce these provisions. Answers may be filed within 21 days after the filing of the application.

Docket Number DOT-OST-2011-0069.

Date Filed March 30, 2011.

Parties Members of the International Air Transport Association.

Subject (a) TC23 between Middle East, Africa and TC3 (except South West Pacific) Flex Fares Resolutions, Geneva, 14-15 June 2010 (Memo 0449/0447), TC23 between Middle East, Africa and TC3 (except South West Pacific) Flex Fares, Geneva, 14-15 June 2010 (Memo 0454/0452), TC23 between Middle East, Africa and TC3 (except South West Pacific) Minutes (Memo 0450/0448).

(b) TC23 Middle East/Africa—TC3 (except South West Pacific) Flex Fare Resolution 111tt, Mail Vote 673 (Memo 0458/0454), Intended Effective Date: 1 April 2011.

Renee V. Wright,
Program Manager, Docket Operations, Federal Register Liaison.

[FR Doc. 2011-9164 Filed 4-14-11; 8:45 am]

BILLING CODE 4910-9X-P